DEPARTMENT OF TRANSPORTATION

Office of the Secretary

Aviation Proceedings, Agreements Filed the Week Ending February 6, 2004

The following Agreements were filed with the Department of Transportation under the provisions of 49 U.S.C. Sections 412 and 414. Answers may be filed within 21 days after the filing of the application.

Docket Number: OST-2004-17031.

Date Filed: February 3, 2004.

Parties: Members of the International Air Transport Association.

Subject: PTC COMP 1121 dated 6 February 2004, Mail Vote 349—Resolution 011a (Amending), Mileage Manual Non-TC Member/Non-IATA Carrier Sectors.

Intended Effective Date: 16 February 2004, (for implementation 1 April 2004).

Docket Number: OST-2004-17050.

Date Filed: February 4, 2004.

Parties: Members of the International Air Transport Association.

Subject: PTC12 SATL-EUR 0118 dated 6 February 2004, South Atlantic-Europe Expedited Resolution 002s r1.

Intended Effective Date: 15 March 2004.

Andrea M. Jenkins,
Program Manager, Docket Operations, Federal Register Liaison.

[FR Doc. 04-3617 Filed 2-18-04; 8:45 am]

BILLING CODE 4910-62-P